DEPARTMENT OF HEALTH AND HUMAN SERVICES

Indian Health Service

Tribal Management Grant Program; Extension of Due Dates

AGENCY: Indian Health Service, HHS.

ACTION: Notice; extension of due dates.

SUMMARY: The Indian Health Service published a document in the Federal Register (FR) on May 1, 2017, for the Fiscal Year 2017 Tribal Management Grant Program. Several Key Dates have been modified.

FOR FURTHER INFORMATION CONTACT: Roselyn Tso, Acting Director, Office of Direct Service and Contracting Tribes, Indian Health Service, 5600 Fishers Lane, Mail Stop 08E17, Rockville, MD 20857, telephone: (301) 443-1104. (This is not a toll-free number.)

Correction

In the Federal Register of May 1, 2017, in FR Doc. 2017-08775, the following corrections are made:

On page 20353, in the first column, under the heading Key Dates, the correct Application Deadline Date should read as: “Application Deadline Date: June 30, 2017.”

On page 20353, in the first column, under the heading Key Dates, the correct Review Date should read as: “Review Date: July 24-28, 2017.”

On page 20353, in the first column, under the heading Key Dates, the correct Signed Tribal Resolutions Due Date should read as: “Signed Tribal Resolutions Due Date: June 30, 2017.”

On page 20353, in the first column, under the heading Key Dates, the correct Proof of Non-Profit Status Due Date should read as: “Proof of Non-Profit Status Due Date: June 30, 2017.”

Dated: June 2, 2017.
Chris Buchanan,
RADM, Assistant Surgeon General, USPHS, Acting Director, Indian Health Service.

[FR Doc. 2017-12010 Filed 6-8-17; 8:45 am]

BILLING CODE 4165-16-P